DEPARTMENT OF COMMERCE

International Trade Administration, North American Free Trade Agreement, Article 1904 NAFTA Panel Reviews; Notice of Panel Decision

AGENCY: NAFTA Secretariat, United States Section, International Trade Administration, Department of Commerce.

ACTION: Notice of Panel Decision.

SUMMARY: On April 19, 2004, the binational panel issued its decision in the review of the final results of the affirmative injury re-determination on remand made by the International Trade Commission (ITC) respecting Certain Softwood Lumber Products from Canada (Secretariat File No. USA-CDA-2002-1904-07) affirmed in part and remanded in part the determination of the International Trade Commission. The Commission will return the second determination on remand no later than May 10, 2004. A copy of the complete panel decision is available from the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from the other country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

Panel Decision: On April 19, 2004, the Binational Panel affirmed in part and remanded in part the International Trade Commission's final injury determination on remand. The following issues were remanded to the Commission:

1. The Commission's finding of Canadian producers' excess production and projected increases in capacity utilization and production, indicating the likelihood of substantially increased imports of the subject merchandise into the United States, is not supported by substantial evidence.

2. The Commission's finding that the domestic industry is threatened with material injury by reason of a significant rate of increase of the volume or market penetration of imports of the volume or market penetration of imports of the subject merchandise, indicating the likelihood of substantially increased imports into the United States, is not supported by substantial evidence.

3. The Commission's finding that the domestic industry is threatened with material injury by reason of the fact that imports of the subject merchandise are entering at prices that are likely to have a significant depressing or suppressing effect on domestic prices, and are likely to increase demand for further imports is not supported by substantial evidence.

4. The Commission's finding that the domestic industry has curbed its overproduction of softwood lumber is not supported by substantial evidence.

The Commission was directed to issue it's determination on remand within 21 days of the panel decision or not later than May 10, 2004.

Dated: April 29, 2004.
Caratina L. Alston,
United States Secretary, NAFTA Secretariat.

[FR Doc. 04-10149 Filed 5-4-04; 8:45 am]

BILLING CODE 3510-GT-P